DEPARTMENT OF ENERGY

Federal Energy Regulatory Commission

Combined Notice of Filings #2

Take notice that the Commission received the following electric corporate filings:

Docket Numbers: EC15-103-000.

Applicants: Iberdrola, S.A., Iberdrola USA, Inc., Iberdrola USA Networks, Inc., Green Merger Sub, Inc., UIL Holdings Corporation.

Description: Joint Application of Iberdrola S.A, et al. for Authorization of Transaction under Section 203 of the Federal Power Act and Requests for Waivers of Filing Requirements, Shortened Comment Period and Expedited Consideration.

Filed Date: 3/25/15.

Accession Number: 20150325-5217.

Comments Due: 5 p.m. ET 4/15/15.

Take notice that the Commission received the following electric rate filings:

Docket Numbers: ER12-348-004.

Applicants: Mercuria Energy America, Inc.

Description: Compliance filing per 35: MBR Tariff to be effective 3/26/2015.

Filed Date: 3/25/15.

Accession Number: 20150325-5245.

Comments Due: 5 p.m. ET 4/15/15.

Docket Numbers: ER13-1332-002.

Applicants: Canadian Hills Wind, LLC.

Description: Tariff Cancellation per 35.17(a): CH Withdrawal to be effective N/A.

Filed Date: 3/25/15.

Accession Number: 20150325-5165.

Comments Due: 5 p.m. ET 4/15/15.

Docket Numbers: ER15-1372-000.

Applicants: Canadian Hills Wind, LLC.

Description: Section 205(d) rate filing per 35.13(a)(2)(iii): Filing of Amended Co-Tenancy and Shared Facilities Agreement to be effective 5/12/2015.

Filed Date: 3/25/15.

Accession Number: 20150325-5174.

Comments Due: 5 p.m. ET 4/15/15.

Docket Numbers: ER15-1373-000.

Applicants: Orange and Rockland Utilities, Inc.

Description: Section 205(d) rate filing per 35.13(a)(2)(i): Orange and Rockland Undergrounding Rate 3.24.15 to be effective 4/1/2015.

Filed Date: 3/25/15.

Accession Number: 20150325-5175.

Comments Due: 5 p.m. ET 4/15/15.

Docket Numbers: ER15-1374-000.

Applicants: PJM Interconnection, L.L.C., Potomac Electric Power Company.

Description: Section 205(d) rate filing per 35.13(a)(2)(iii): Potomac Electric Power Company submits revisions to OATT Att H-9A to be effective 4/1/2015.

Filed Date: 3/25/15.

Accession Number: 20150325-5196.

Comments Due: 5 p.m. ET 4/15/15.

Docket Numbers: ER15-1375-000.

Applicants: McCoy Solar, LLC.

Description: Baseline eTariff Filing per 35.1: McCoy Solar, LLC Application for Market-Based Rate Authority to be effective 5/24/2015.

Filed Date: 3/25/15.

Accession Number: 20150325-5230.

Comments Due: 5 p.m. ET 4/15/15.

Docket Numbers: ER15-1376-000.

Applicants: Mercuria Commodities Canada Corporation.

Description: Tariff Withdrawal per 35.15: Notice of Cancellation to be effective 3/26/2015.

Filed Date: 3/25/15.

Accession Number: 20150325-5246.

Comments Due: 5 p.m. ET 4/15/15.

Docket Numbers: ER15-1377-000

Applicants: Midcontinent Independent System Operator, Inc.

Description: Section 205(d) rate filing per 35.13(a)(2)(iii): 2015-03-25_SA 2707 NSP-Odell Wind Farm 1st Rev GIA (G826) to be effective 3/26/2015.

Filed Date: 3/25/15.

Accession Number: 20150325-5247.

Comments Due: 5 p.m. ET 4/15/15.

Docket Numbers: ER15-1378-000.

Applicants: Mercuria Commodities Canada Corporation.

Description: Baseline eTariff Filing per 35.1: Refile MBR Tariff to be effective 3/26/2015.

Filed Date: 3/25/15.

Accession Number: 20150325-5248.

Comments Due: 5 p.m. ET 4/15/15.

Docket Numbers: ER15-755-001.

Applicants: Powerex Corp.

Description: Compliance filing per 35: FERC Rate Schedule No. 1 Compliance Filing to be effective 3/1/2015.

Filed Date: 3/25/15.

Accession Number: 20150325-5195.

Comments Due: 5 p.m. ET 4/15/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 25, 2015.
Nathaniel J. Davis, Sr.,
Deputy Secretary.

[FR Doc. 2015-07304 Filed 3-30-15; 8:45 am]

BILLING CODE 6717-01-P